DEPARTMENT OF VETERANS AFFAIRS

President's Task Force To Improve Health Care Delivery for Our Nation's Veterans, Notice of Meeting

The Department of Veterans Affairs (VA) gives notice under Public Law 92-463 (Federal Advisory Committee Act) that a meeting of the President's Task Force to Improve Health Care delivery for Our Nation's Veterans is scheduled for Wednesday, September 11, 2002, beginning at 9 a.m. and adjourning at 4:45 p.m. and Thursday, September 12, 2002, beginning at 9 a.m. and adjourning at 1 p.m. The September 11 session will be held in the Horizon Ballroom of the Ronald Reagan Building International Trade Center, 1300 Pennsylvania Avenue, NW., Washington DC. The September 12 session will be held in the Washington Ballroom of the Radisson Hotel Old Town, 901 North Fairfax Street, Alexandria, VA. Both sessions are open to the public.

The purpose of the President's Task Force to Improve Health Care Delivery for Our Nation's Veterans is to:

(a) Identify ways to improve benefits and services for Department of Veterans Affairs (VA) beneficiaries and Department of Defense (DoD) military retirees who are also eligible for benefits from VA, through better coordination of the activities of the two departments;

(b) Identify opportunities to remove barriers that impede VA and DoD coordination, including budgeting processes, timely billing, cost accounting, information technology, and reimbursement; and

(c) Identify opportunities through partnership between VA and DoD, to maximize the use of resources and infrastructure, including buildings, information technology and data sharing systems, procurement of supplies, equipment and services.

On the morning of September 11, the President's Task Force will receive presentations by and have discussions with Dr. Robert H. Roswell, Under Secretary for Health, Department of Veterans Affairs. For the remainder of the day, staff consultants will lead a discussion of major themes and issues to be addressed in the Final Report of the President's Task Force.

On September 12, the President's Task Force will receive a presentation by and have discussions with Mr. Thomas A. Scully, Administrator, Centers for Medicare and Medicaid Services, and Mr. John G. Clarkson, MD, Dean, University of Miami Medical School, representing the Association of American Medical Colleges.

Interested parties can provide written comments to Mr. Dan Amon, Communications Director, President's Task Force to Improve Health Care Delivery for Our Nation's Veterans, 1401 Wilson Boulevard, 4th Floor, Arlington, Virginia, 22209.

Dated: August 27, 2002.
By Direction of the Secretary:
Nora E. Egan,
Committee Management Officer.

[FR Doc. 02-22726 Filed 9-5-02; 8:45 am]

BILLING CODE 8320-01-M